DEPARTMENT OF ENERGY

Federal Energy Regulatory Commission

[Project No. 3102-023]

Gaynor L. Bracewell; Jason & Carol Victoria Presley; Notice of Application for Transfer of License and Soliciting Comments, Motions To Intervene, and Protests

On April 28, 2017, Jason and Carol Victoria Presley (transferees) filed an application for an after-the-fact transfer of license of the High Shoals Project No. 3102. The project is located on the Apalachee River in Walton, Morgan, and Oconee Counties, Georgia. The project does not occupy Federal lands.

The applicants seek Commission approval to transfer the license for the High Shoals Project from Gaynor L. Bracewell (transferor) to the transferees. Gaynor L. Bracewell passed away on September 27, 2006, and Jason and Carol Victoria Presley have been operating the project since that time.

Applicant's Contacts: Mr. Jason Presley and Ms. Carol Victoria Presley, 110 Frazier Hill Road, Bishop GA 30621, Phone: (706) 769-8293, Email: jason@presley.us; victoria@presley.us.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3102-023.

Dated: May 2, 2017.
Kimberly D. Bose,
Secretary.

[FR Doc. 2017-09248 Filed 5-5-17; 8:45 am]

BILLING CODE 6717-01-P